DEPARTMENT OF DEFENSE

Department of the Navy

Notice of Intent To Grant Exclusive Patent License; Richard Freund

AGENCY: Department of the Navy, DOD.

SUMMARY: The Department of the Navy hereby gives notice of it's intent to grant a prospective license to Richard Freund to the Government-owned invention described in U.S. Patent Serial No. 06/076,174 entitled “Scheduling Framework for a Heterogeneous Computer Network,” issued 13 June 2000.

DATES: Anyone wishing to object to the grant of this license must file written objections along with supporting evidence, if any, not later than August 7, 2001.

ADDRESSES: Written objections are to be filed with the Office of Patent Counsel, Space and Naval Warfare Systems Center, D0012, 53510 Silvergate Ave., Room 103, San Diego, CA 92152-5765.

FOR FURTHER INFORMATION CONTACT: Mr. Harvey Fendelman, Patent Counsel, Space and Naval Warfare Systems Center, Code D0012, 53510 Silvergate Ave., Room 103, San Diego, CA 92152-5765, telephone (619) 553-3001.

(Authority: 35 U.S.C. 207, 37 CFR part 404)

Dated: July 21, 2001.
T.J. Welsh,
Lieutenant Commander, Judge Advocate General's Corps, U.S. Navy, Federal Register Liaison Officer.

[FR Doc. 01-18262 Filed 7-20-01; 8:45 am]

BILLING CODE 3810-FF-P